SECURITIES AND EXCHANGE COMMISSION

[Release No. 34-79498; File No. SR-NYSEArca-2016-63]

Self-Regulatory Organizations; NYSE Arca, Inc.; Notice of Withdrawal of a Proposed Rule Change Relating to Listing and Trading of Shares of the BlackRock Government Collateral Pledge Unit Under NYSE Arca Equities Rule 8.600

December 7, 2016.

On May 19, 2016, NYSE Arca, Inc. (“Exchange”) filed with the Securities and Exchange Commission (“Commission”), pursuant to Section 19(b)(1) of the Securities Exchange Act of 1934 (“Act”) ¹ and Rule 19b-4 thereunder,² a proposed rule change to list and trade shares of the BlackRock Government Collateral Pledge Unit. The proposed rule change was published for comment in the Federal Register on June 2, 2016.³ On July 14, 2016, the Commission designated a longer period within which to approve the proposed rule change, disapprove the proposed rule change, or institute proceedings to determine whether to disapprove the proposed rule change.⁴ On August 30, 2016, the Commission instituted proceedings to determine whether to approve or disapprove the proposed rule change.⁵ On November 25, 2016, the Commission issued a notice of designation of a longer period for Commission action on proceedings to determine whether to approve or disapprove the proposed rule change.⁶ The Commission received no comments on the proposed rule change.

¹ 15 U.S.C. 78s(b)(1).

² 17 CFR 240.19b-4.

³ See Securities Exchange Act Release No. 77941 (May 27, 2016), 81 FR 35425.

⁴ See Securities Exchange Act Release No. 78328, 81 FR 47222 (July 20, 2016).

⁵ See Securities Exchange Act Release No. 78728, 81 FR 61260 (September 6, 2016).

⁶ See Securities Exchange Act Release No. 79398, 81 FR 86749 (December 1, 2016).

On December 2, 2016, the Exchange withdrew the proposed rule change (SR-NYSEArca-2016-63).

For the Commission, by the Division of Trading and Markets, pursuant to delegated authority.⁷
⁷ 17 CFR 200.30-3(a)(12).
Eduardo A. Aleman,
Assistant Secretary.

[FR Doc. 2016-29803 Filed 12-12-16; 8:45 am]

BILLING CODE 8011-01-P